NATIONAL COUNCIL ON DISABILITY

Sunshine Act Meeting; Correction

AGENCY: National Council on Disability.

ACTION: Notice; correction.

SUMMARY: The National Council on Disability published a notice in the Federal Register of April 27, 2020, concerning a conference call meeting of the Council. This document is intended to correct the omission of noting the conference call meeting as a Sunshine Act meeting and to ensure that it is properly categorized to be understood as open to the public. All other information from the original notice is accurate.

CONTACT PERSON FOR MORE INFORMATION: Anne Sommers, NCD, 1331 F Street NW, Suite 850, Washington, DC 20004; 202-272-2004 (V), 202-272-2022 (Fax).

SUPPLEMENTARY INFORMATION:

Correction

In the Federal Register of April 27, 2020, FR Doc. 2020-08807, on page 23379, in the second column, correct the subject heading to read:

Sunshine Act Meeting

Dated: April 28, 2020.
Sharon M. Lisa Grubb,
Executive Director and CEO.

[FR Doc. 2020-09364 Filed 5-1-20; 8:45 am]

BILLING CODE 8421-02-P